DEPARTMENT OF DEFENSE

Department of the Army

Notice of Intent To Prepare an Environmental Impact Statement (EIS) for the Design, Construction, and Operation and Closure of a Facility for the Destruction of Chemical Agents and Munitions at Blue Grass Army Depot (BGAD), Kentucky

AGENCY: Department of the Army, DoD.

ACTION: Notice of Intent.

SUMMARY: This announces the Army's intent to prepare a site-specific EIS on the potential impacts of the design, construction, operation and closure of a facility to destroy all of the chemical agents and munitions currently stored at the BGAD, Kentucky. The EIS will examine potential environmental impacts of the following destruction facility alternatives: a baseline incineration facility; a full-scale facility to pilot test an alternative technology successfully demonstrated by the Assembled Chemical Weapons Assessment (ACWA) Program; and no action (an alternative that will continue the storage of the chemical agent and munitions at the BGAD). If any reasonable alternatives are identified during the environmental analysis process, they will be considered as alternative courses of action.

The United States has a statutory and international treaty obligation to destroy its stockpile of chemical weapons, including those at the BGAD. The technique of using incineration (herein referred to as baseline incineration) has already been tested safely and successfully in full-scale facilities. Alternatives to baseline incineration have been tested at the demonstration level, but not in pilot scale or full-scale facilities. Before additional federal funds can be spent on any alternative technology, sec. 142 of the Strom Thurmond National Defense Authorization Act for Fiscal Year 1999, Pub. L. 105-261, requires that three findings be made. First, an alternative technology would have to be determined to be as safe as and as cost effective as baseline incineration. Second, it must also be capable of completing destruction of the stockpile by the later of either the Chemical Weapons Convention destruction date or the date the BGAD stockpile would be destroyed if baseline incineration were used. Finally, it must comply with Federal and State health and safety laws.

DATES: Written comments must be received not later than February 2, 2001 in order to be considered in the Draft EIS.

ADDRESSES: Written comments may be forwarded to the Program Manager for Chemical Demilitarization, Public Outreach and Information Office (ATTN: Mr. Gregory Mahall), Building E-4585, Aberdeen Proving Ground, MD 21010-4005.

FOR FURTHER INFORMATION CONTACT: Mr. Gregory Mahall by mail at the above listed address, by phone at 410-436-1093, by fax at 410-436-5122, or by email at gregory.mahall@pmcd.apgea.army.mil. For additional general information or questions on this process, please call 1-800-488-0648 to leave a message.

SUPPLEMENTARY INFORMATION: In compliance with the National Environmental Policy Act (Title 40, CFR, Parts 1500 through 1508), the Army will prepare an EIS to assess the health and environmental impacts of the design, construction, operation and closure of a facility to destroy all of the chemical agents and munitions stored at the BGAD. Federal law and an international treaty require that the chemical agents and munitions be destroyed. This EIS will analyze the impact of the various methods of destroying the BGAD stockpile. The ACWA Program is currently in the process of programmatically addressing pilot tests for alternative technologies at one or more Army chemical agent stockpile sites (FR 65 20139, April 14, 2000). These two separate and distinct analyses serve complementary but different purposes.

This site-specific EIS continues the process that began when Congress established the Program for Chemical Demilitarization in Pub. L. 99-145 in 1985. The law requires destruction of the chemical weapons stockpile by a deadline established by treaty; that date is April 2007. This requirement still exists, notwithstanding the establishment of the ACWA Program. The Chemical Demilitarization Program published a Programmatic EIS in January 1988. Its Records of Decision (ROD) states that the stockpile of chemical agents and munitions should be destroyed in a safe and environmentally acceptable manner by on-site incineration. Site-specific Environmental Impact Statements that tier off the Programmatic EIS have been prepared for Johnston Atoll Chemical Agent Disposal System, Tooele Chemical Agent Disposal Facility, Anniston Chemical Agent Disposal Facility, Umatilla Chemical Agent Disposal Facility, Pine Bluff Chemical Agent Disposal Facility, Aberdeen Chemical Agent Disposal Facility, and Newport Chemical Agent Disposal Facility. An updated report and Record of Environmental Consideration have also been done on the Tooele Chemical Agent Disposal Facility.

The specific purpose of the current analysis is to determine the environmental impacts of the methods that could accomplish the destruction of the stockpile at the BGAD by the required destruction date on April 2007. The environmental impact analysis will determine whether construction of a full-scale plant operated initially as a pilot facility and using one of the technologies successfully demonstrated in the ACWA Program is capable of destroying the stockpile at the BGAD by the reburied destruction date (or as soon thereafter as could be achieved by constructing a destruction facility using the baseline incineration technology), and if doing so is as safe as the baseline incineration technology. The 1988 Programmatic EIS ROD does not limit or predetermine the results of the selection of a destruction technology for the BGAD, and it does not dictate the decision to be made in the ROD following completion of the EIS for this action at the BGAD. The ACWA Program has already successfully demonstrated and validated neutralization followed by supercritical water oxidation. The ACWA Program is currently evaluating two additional technologies—electrochemical oxidation with nitric acid and neutralization/supercritical water oxidation/gas phase reduction. If one or more of these technologies are later considered to be a reasonable alternative, they will also be considered in this site-specific EIS. The ACWA Program EIS for potential follow-on pilot testing of successful ACWA Program demonstration tests pursuant to the process established by Congress in Pub. L. 104-208 and 105-261 addresses a separate but related purpose. That purpose is to determine if any ACWA Program technologies can be pilot tested, and, if so, at which site or sites. The ACWA Program EIS will be distinct from this site-specific EIS because its emphasis will be on the feasibility of pilot testing one or more of the successfully demonstrated and validated ACWA Program technologies considering the unique characteristics of various sites, where chemical weapons are currently stored, including the BGAD. At the conclusion of both of these Environmental Impact Statements, Records of Decision will be issued.

The Army will hold scoping meetings to aid in determining the significant issues related to the proposed action that will be addressed in the site-specific EIS. The scoping process will include public participation and seek input from Federal, Commonwealth of Kentucky, and local government agencies, as well as residents within the affected environment. The dates, times, and locations of scoping meetings will be announced in appropriate news media at least 15 days prior to these meetings.

Dated: November 28, 2000.
Raymond J. Fatz,
Deputy Assistant Secretary of the Army, (Environment, Safety, and Occupational Health), OASA(I&E).

[FR Doc. 00-30756 Filed 12-1-00; 8:45 am]

BILLING CODE 3710-08-M